DEPARTMENT OF THE INTERIOR

Fish and Wildlife Service

Availability of Final Comprehensive Conservation Plan for Sand Lake National Wildlife Refuge, Columbia, SD

AGENCY: Fish and Wildlife Service, Interior.

ACTION: Notice of availability.

SUMMARY: The U.S. Fish and Wildlife Service announces that a Comprehensive Conservation Plan (CCP) and Summary for Sand Lake National Wildlife Refuge is available. This CCP, prepared pursuant to the National Wildlife Refuge System Improvement Act of 1997 and the National Environmental Policy Act of 1969, describes how the U.S. Fish and Wildlife Service intends to manage this refuge for the next 15 years.

ADDRESSES: A copy of the CCP or Summary may be obtained by writing to U.S. Fish and Wildlife Service, Sand Lake National Wildlife Refuge, 39650 Sand Lake Drive, Columbia, SD 57433; or downloaded from http://mountain-prairie.fws.gov/planning.

FOR FURTHER INFORMATION CONTACT: Gene Williams, Project Leader, U.S. Fish and Wildlife Service, Sand Lake National Wildlife Refuge, 39650 Sand Lake Drive, Columbia, South Dakota, 57433; telephone 605-885-6320; fax 605-885-6333; or e-mail: gene_williams@fws.gov.

SUPPLEMENTARY INFORMATION: Sand Lake National Wildlife Refuge (NWR) was established in the mid-1930s as a refuge and breeding ground for migratory birds and other wildlife. The 21,498-acre refuge lies in the James River basin within Brown County, South Dakota. This northeastern area of South Dakota is the heart of the prairie-pothole region of the northern Great Plains and plays a major role for migratory birds.

Sand Lake NWR was established by Executive Order 7169 (September 4, 1935) “* * * as a refuge and breeding ground for migratory birds and other wildlife * * *” Four other sets of authorities and purposes follow: The Migratory Bird Conservation Act, “* * * for uses as an inviolate sanctuary, or for any other management purpose, for migratory birds * * *”; the Fish and Wildlife Act, “* * * for the development, advancement, management, conservation, and protection of fish and wildlife resources * * *”; the National Wildlife Refuge System Administration Act, for “* * * conservation, management, and protection of fish and wildlife resources * * *”; and the Refuge Recreation Act, “* * * for (1) incidental fish and wildlife-oriented recreational development, (2) the protection of natural resources, and (3) the conservation of endangered species or threatened species * * *”

The availability of the Draft CCP and Environmental Assessment (EA) for 30-day public review and comment was announced in the Federal Register on June 20, 2005, (FO FR 35449). The Draft CCP/EA identified and evaluated three alternatives for managing Sand Lake NWR for the next 15 years. Alternative 1, the No Action Alternative, would have continued current management of the refuge. Alternative 3 (Preferred Alternative) takes an integrated approach with management practices that would serve to improve bird populations. This alternative balances the best management practices for producing migratory birds and finds a balance with reducing cropland, while ensuring depredation is minimized. Alternative 2 would maximize the biological potential of the refuge for species of grassland-nesting birds. Based on this assessment and comments received, the Preferred Alternative 3 was selected for implementation. The preferred alternative was selected because it best meets the purposes and goals of the refuge, as well as the goals of the National Wildlife Refuge System. The preferred alternative will also maximize the biological potential for migratory birds, and the vegetative diversity of grasslands would be greatly enhanced by reseeding for native plants or rejuvenated dense nesting cover. Environmental education and partnerships will result in improved wildlife-dependent recreational opportunities that will be expanded and improved on- and off-refuge. Cultural and historical resources will be protected.

Dated: October 17, 2005.
Sharon R. Rose,
Acting Deputy Regional Director, Region 6, Denver, CO.

Note: This document was received at the Office of the Federal Register on March 6, 2006.

[FR Doc. E6-3344 Filed 3-8-06; 8:45 am]

BILLING CODE 4310-55-P